DEPARTMENT OF HEALTH AND HUMAN SERVICES

Centers for Disease Control and Prevention

[60Day-15-15ZT; Docket No. CDC-2015-0023]

Proposed Data Collection Submitted for Public Comment and Recommendations

AGENCY: Centers for Disease Control and Prevention (CDC), Department of Health and Human Services (HHS).

ACTION: Notice with comment period.

SUMMARY: The Centers for Disease Control and Prevention (CDC), as part of its continuing efforts to reduce public burden and maximize the utility of government information, invites the general public and other Federal agencies to take this opportunity to comment on proposed and/or continuing information collections, as required by the Paperwork Reduction Act of 1995. This notice invites comment on the proposed information collection request for the Performance Measurement and Program Evaluation of the Autism and Developmental Disabilities Monitoring Network (ADDM). CDC seeks to collect performance monitoring and program evaluation data from all sites participating in the ADDM network.

DATES: Written comments must be received on or before June 22, 2015.

ADDRESSES: You may submit comments, identified by Docket No. CDC-2015-0023 by any of the following methods:

• Federal eRulemaking Portal: Regulation.gov. Follow the instructions for submitting comments.

• Mail: Leroy A. Richardson, Information Collection Review Office, Centers for Disease Control and Prevention, 1600 Clifton Road, NE., MS-D74, Atlanta, Georgia 30329.

Instructions: All submissions received must include the agency name and Docket Number. All relevant comments received will be posted without change to Regulations.gov, including any personal information provided. For access to the docket to read background documents or comments received, go to Regulations.gov.

Please note: All public comment should be submitted through the Federal eRulemaking portal (Regulations.gov) or by U.S. mail to the address listed above.

FOR FURTHER INFORMATION CONTACT: To request more information on the proposed project or to obtain a copy of the information collection plan and instruments, contact the Information Collection Review Office, Centers for Disease Control and Prevention, 1600 Clifton Road, NE., MS-D74, Atlanta, Georgia 30329; phone: 404-639-7570; Email: omb@cdc.gov.

SUPPLEMENTARY INFORMATION:

Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to OMB for approval. To comply with this requirement, we are publishing this notice of a proposed data collection as described below.

Comments are invited on: (a) Whether the proposed collection of information is necessary for the proper performance of the functions of the agency, including whether the information shall have practical utility; (b) the accuracy of the agency's estimate of the burden of the proposed collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information.

Proposed Project

Performance Measurement and Program Evaluation of the Autism and Developmental Disabilities Monitoring Network (ADDM)—New—National Center on Birth Defects and Developmental Disabilities (NCBDDD), Centers for Disease Control and Prevention (CDC) is a new Information Collection Request.

Background and Brief Description

In January 2015, CDC launched a new phase of funding for its autism spectrum disorder (ASD) surveillance program through a new cooperative agreement: “Enhancing Public Health Surveillance of Autism Spectrum Disorder and Other Developmental Disabilities through the Autism and Developmental Disabilities Monitoring (ADDM) Network” under the Funding Opportunity Announcement (FOA) DD15-1501. Through this cooperative agreement, funding is provided to enhance tracking at eight existing sites and to launch two new sites. Awards were made to state/local health departments and/or their designated representatives, including Colorado Department of Public Health and Environment, Johns Hopkins University, Rutgers University, University of Arizona, University of Arkansas for Medical Sciences, University of North Carolina at Chapel Hill, University of Minnesota, University of Wisconsin-Madison, Vanderbilt University, and Washington University in St. Louis. Four sites received funding to carry out Component A, which focuses on surveillance of ASD and either cerebral palsy or intellectual disability among 8-year-olds. Six sites received funding to carry out both Component A as well as Component B, which focuses on surveillance of ASD among 4-year-olds. In addition to the sites funded under the cooperative agreement, CDC also administers a site in Atlanta, Georgia, commonly known as the Metropolitan Atlanta Developmental Disabilities Surveillance Program (MADDSP).

CDC requests OMB approval to collect performance monitoring and program evaluation information from all sites participating in the Autism and Developmental Disabilities Monitoring Network (including the site administered by CDC). Over the course of the four-year funding cycle, each site will submit a Checklist, Worksheets, and Performance Measures every six month and two-year intervals. The Checklist, Worksheets, and Performance Measures will be submitted to CDC by completing a Microsoft Excel-based data collection tool and uploading the information to a secure, password-protected FTP site. By developing a user-friendly data collection tool in Microsoft Excel, CDC anticipates that the reporting and tracking burden for awardees will be reduced due to: (1) awardees' familiarity with the software, which reduces training burden; and (2) the compatibility of the templates with other record keeping processes that are already in place for many awardees. CDC staff and contractors will be responsible for converting each awardee's submissions into a secure Microsoft Access-based system for reporting and analysis. CDC anticipates that respondent burden will be slightly higher at the initial six-month submission and will also be slightly higher for sites completing Component A&B compared to just Component A.

The information to be collected will help CDC and awardees assure compliance with cooperative agreement requirements, support program evaluation efforts, and obtain information needed to respond to inquiries about program activities and program impact from Congress and other stakeholders.

OMB approval is requested for three years. Participation is required as a condition of cooperative agreement funding. There are no costs to respondents other than their time. The total estimated burden hours are 125.

Estimated Annualized Burden Hours
Type of respondents | Form name | Number of respondents | Number responses per respondent | Average burden per response (in hours) | Total burden hours
Component A only (initial six-month submission) | Checklist | 5 | 1 | 3/60 | 1
| Worksheets | 5 | 1 | 1.5 | 8
| Performance Measures | 5 | 1 | 30/60 | 3
Component A&B (initial six-month submission) | Checklist | 6 | 1 | 3/60 | 1
| Worksheets | 6 | 1 | 2 | 12
| Performance Measures | 6 | 1 | 4/60 | 4
Component A only (subsequent six-month and two-year submissions) | Checklist | 5 | 5 | 3/60 | 1
| Worksheets | 5 | 5 | 1 | 25
| Performance Measures | 5 | 5 | 18/60 | 8
Component A&B (subsequent six-month and two-year submissions) | Checklist | 6 | 5 | 3/60 | 2
| Worksheets | 6 | 5 | 1.5 | 45
| Performance Measures | 6 | 5 | 30/60 | 15

Leroy A. Richardson,
Chief, Information Collection Review Office, Office of Scientific Integrity, Office of the Associate Director for Science, Office of the Director, Centers for Disease Control and Prevention.

[FR Doc. 2015-09087 Filed 4-20-15; 8:45 am]

BILLING CODE 4163-18-P